DEPARTMENT OF ENERGY

Federal Energy Regulatory Commission

[Docket No. CP01-154-000]

Maritimes & Northeast Pipeline, L.L.C.; Notice of Application

April 19, 2001.

On April 13, 2001, Maritimes & Northeast Pipeline, L.L.C. (Maritimes), 1284 Soldiers Field Road, Boston, Massachusetts 02135, filed in Docket No. CP01-154-000, an abbreviated application pursuant to section 7(c) of the Natural Gas Act (NGA) and the Commission's Rules and Regulations for a certificate of public convenience and necessity authorizing Maritimes: (i) To place in service, on a full-time basis, a compressor unit which is currently installed for use on a stand-by basis at Maritimes' existing compressor station site in Richmond, Maine; (ii) to connect, place in service and operate a second compressor unit currently on site and stored within an existing compressor station building in Baileyville, Maine; and (iii) to construct, install, and operate any auxiliary facilities at these compressor stations necessary to place these compressor units in service. The application is on file with the Commission and open to public inspection. The filing may be viewed at http://www.ferc.fed.us/online/rims.htm (call 202-208-2222 for assistance).

Maritimes, along with its Canadian pipeline affiliate, operates a high pressure natural gas delivery system that transports natural gas in international commerce from a point near Goldboro, Nova Scotia to the Canadian-United States border and through the northeastern states of Maine and New Hampshire, with a terminus in Dracut, Massachusetts. Maritimes states that the proposed facilities will provide additional system flexibility and reliability and eliminate system bottlenecks for Maritimes' existing shippers. It also will enable Maritimes to accommodate additional flows of gas from the existing production fields located offshore Nova Scotia. The proposed compressor units have a nominal rating of 8,311 (HP) (NEMA) each. The new compressor units will increase the design capacity of 360,575 Dekatherms per day (Dth/d) to 440,000 Dth/d. Maritimes states that there are no additional land requirements associated with the proposed project. All project components are located on lands, and within compressor station buildings, currently owned and used by Maritimes.

The estimated cost of Maritimes' proposed project is approximately $11.7 million. Maritimes states that there is no subsidy issue with respect to this application because: (i) The cost of the unit at Richmond is already reflected in rate base, (ii) Maritimes' rates are currently capped and will continue to be capped until at least November 30, 2004, at $0.715 per dth on a 100 percent load factor basis, and (iii) the rate on a rolled-in basis, giving consideration to the costs associated with the proposed facilities, will not increase above current levels.

Questions regarding the details of this proposed project should be directed to Joseph F. McHugh, Director, Rates and Regulatory Affairs, M&N Management Company, 1284 Soldiers Field Road, Boston, Massachusetts 02135.

There are two ways to become involved in the Commission's review of this project. First, any person wishing to obtain legal status by becoming a party to the proceedings for this project should, on or before May 10, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests, and intervention may be filed electronically via the internet in lieu of paper. See, 18 CFR 385.2001(a)(1)(iii) and the instructions on the Commission's web site at http://www.ferc. fed.us/efi/doorbell.htm.

If the Commission decides to set the application for a formal hearing before an Administrative Law Judge, the Commission will issue another notice describing that process. At the end of the Commission's review process, a final Commission order approving or denying a certificate will be issued.

Linwood A. Watson, Jr.,
Acting Secretary.

[FR Doc. 01-10191 Filed 4-24-01; 8:45 am]

BILLING CODE 6712-01-M